DEPARTMENT OF HEALTH AND HUMAN SERVICES

Centers for Disease Control and Prevention

[Program Announcement 04200]

Expansion of Activities Supporting Capacity Building, Coordination, Networking, and Information Exchange Among Non-Governmental AIDS Service Organizations in the Republic of Zimbabwe; Notice of Intent To Fund Single Eligibility Award

A. Purpose

The Centers for Disease Control and Prevention (CDC) announces the intent to fund fiscal year (FY) 2004 funds for a cooperative agreement program to improve and expand capacity building, coordination, networking, and information exchange activities between and among non-governmental AIDS Service Organizations (ASOs) in Zimbabwe. The Catalog of Federal Domestic Assistance number for this program is 93.941.

B. Eligible Applicant

Assistance will be provided only to the Zimbabwe AIDS Network (ZAN). No other applications are solicited.

ZAN is an indigenous non-governmental organization (NGO) that has focused on prevention and care of HIV/AIDS since its inception in the early 1990s. ZAN's inception was the result of a number of HIV/AIDS organizations coming together through the realization that they needed a network to gather and share information and resources and a point of focus for information dissemination and advocacy at the highest levels of society. ZAN currently has over 260 members. In addition to non-governmental organizations and ASOs, ZAN's membership includes organizations from the industrial private sector, commercial sector, farming communities, and churches.

ZAN is unique because of its organizational mandate to serve as the single national HIV/AIDS NGO networking organization. No other agency exists within Zimbabwe to serve this purpose.

Zimbabwe is among the countries most affected by HIV/AIDS in the world. HIV prevalence is estimated to be approximately 25 percent. There has been a ten-fold increase in the number of TB cases, and up to 35 percent of the children may be orphaned due to AIDS by the end of this decade. At the same time, the public health response to the epidemic in Zimbabwe is inadequate due in part to insufficient manpower in the Zimbabwe public health system and lack of sufficient expertise in HIV/AIDS. Now more than ever, organizations involved in HIV/AIDS work are in need of a national networking organization like ZAN that will provide expanded services in capacity building, coordination, networking, and information exchange.

C. Funding

Approximately $200,000 is available in FY 2004 to fund this award. It is expected that the award will begin on or before September 1, 2004, and will be made for a 12-month budget period within a project period of up to three years. Funding estimates may change.

D. Where To Obtain Additional Information

For general comments or questions about this announcement, contact: Technical Information Management, CDC Procurement and Grants Office, 2920 Brandywine Road, Atlanta, GA 30341-4146, Telephone: 770-488-2700.

For program technical assistance, contact: Dr. Shannon Hader, MD, Director, CDC Zimbabwe, 38 Samora Machel Avenue, Second Floor, Harare, Zimbabwe, Telephone: (263) 4-796040, E-mail: haders@zimcdc.co.zw.

For financial, grants management, or budget assistance, contact: Ms. Shirley Wynn, Grants Management Specialist, CDC Procurement and Grants Office, 2920 Brandywine Road, Atlanta, GA 30341, Telephone: 770-488-1515, E-mail: zbx6@cdc.gov.

Dated: June 25, 2004.
Alan Kotch,
Acting Director, Procurement and Grants Office, Centers for Disease Control and Prevention.

[FR Doc. 04-14937 Filed 6-30-04; 8:45 am]

BILLING CODE 4163-18-P